ENVIRONMENTAL PROTECTION AGENCY

[FRL-7409-5]

Interstate Lead Company (ILCO) Superfund Site/Leeds, AL; Notice of Proposed Settlement

AGENCY: Environmental Protection Agency.

ACTION: Notice of Proposed Settlement.

SUMMARY: Under Section 122(g) of the Comprehensive Environmental Response, Compensation, and Liability Act (CERCLA), Voltex Batteries, Inc. et al., d/b/a/ Steve Drive Enterprises, Inc. (Respondent) entered into a de minimis administrative order on consent with the Environmental Protection Agency (EPA), whereby the Respondent, in exchange for the United States' covenant not to sue, agrees to pay EPA $8,700 and the ILCO Site Remediation Group $21,300 for its share of the past and future response costs, including a premium, for the ILCO Superfund Site located in Leeds, Jefferson County, Alabama. EPA will consider public comments on the proposed settlement for thirty days. EPA may withdraw from or modify the proposed settlement should such comments disclose facts or considerations which indicate the proposed settlement is inappropriate, improper, or inadequate. Copies of the proposed settlement are available from: Ms. Paula V. Batchelor, U.S. Environmental Protection Agency, Region IV, CERCLA Program Services Branch, Waste Management Division 61 Forsyth Street, S.W., Atlanta, Georgia 30303, (404) 562-8887.

Written comment may be submitted to Ms. Brenita Richardson at the above address within 30 days of the date of publication.

Dated: October 21, 2002.
Anita L. Davis,
Acting Chief, CERCLA Program Services Branch, Waste Management Division.

[FR Doc. 02-29175 Filed 11-15-02; 8:45 am]

BILLING CODE 6560-50-P